DEPARTMENT OF HEALTH AND HUMAN SERVICES

Health Resources and Services Administration

Determining Mental Health Professional Shortage Areas of Greatest Need

AGENCY: Health Resources and Services Administration (HRSA), Health and Human Services (HHS).

ACTION: updating of the scoring criteria for determining mental health professional shortage areas (HPSA) of greatest need.

SUMMARY: In accordance with the requirements of section 333A(b)(1) of the Public Health Service (PHS) Act, as amended by the Health Care Safety Net Amendments of 2002, 42 U.S.C. 254f-1(b)(1), the Secretary of HHS shall establish the criteria which she will use to make determinations under section 333A(a)(1)(A) of the HPSAs with the greatest shortages. This notice sets forth revised criteria for determining mental health HPSAs with the greatest shortage. This updates the previous criteria published on May 30, 2003.

DATES: Effective January 14, 2015.

FOR FURTHER INFORMATION CONTACT: Kae Brickerd, Ph.D., Chief, Shortage Designation Branch, Bureau of Health Workforce, Division of Policy and Shortage Designation, Health Resources and Services Administration, 11W14 Parklawn Building, 5600 Fishers Lane, Rockville, Maryland 20857, 301 945-0828, kbrickerd@hrsa.gov.

SUPPLEMENTARY INFORMATION: Section 332 of the PHS Act, 42 U.S.C. 254e, provides that the Secretary shall designate HPSAs based on criteria established by regulation. HPSAs are defined in Section 332 to include (1) urban and rural geographic areas with shortages of health professionals, (2) population groups with such shortages, and (3) facilities with such shortages. The required regulations setting forth the criteria for designating HPSAs are codified at 42 CFR part 5. Section 333A(a)(1)(A) of the PHS Act and requires that the Secretary give priority in the assignment of National Health Service Corps personnel to entities serving HPSAs with the greatest health professional shortage. Section 333A(b) of the PHS Act requires that the Secretary establish criteria specifying the manner in which she determines HPSAs of greatest shortage and publish the criteria, and any revisions to the criteria, in the Federal Register. The criteria established by the Secretary create a method for scoring HPSAs based on relative shortage.

In the Federal Register notice on May 30, 2003, 68 FR 32531, the following criteria were identified for determining scores for mental health HPSAs: population to provider ratio, percentage of the population below 100 percent of poverty, travel time to the nearest alternative source of care, the ratio of children under age 18 to adults age 18-64, the ratio of adults over age 65 to adults age 18-64, and alcohol and substance abuse prevalence rates. Each factor is given points and the score is the sum of the points, up to 25. This notice modifies and provides clarification to the point scale for the population to provider ratio component of the formula, based on an assessment that the current point scale for the population to provider ratio does not adequately reflect the level of shortage. As a result of the modifications, the point values assigned for some population to provider ratios will see either a small increase or decrease, while others may remain unchanged. All other scoring criteria and point scales remain the same as published in the previous notice.

The point scale published in 2003 for the population to provider ratio is presented in the following table:

Psychiatrist ratio | Core mental health ratio | Score
>45,000:0 AND | >4,500:0 | 8
| >4500:1 and <6000:1¹ | 7
<20,000:1 and >15,000:1 AND | >6000:1 and <9,000:1 | 6
<30,000:1 and >15,000:1 OR | >4,500:1 and <6,000:1 | 5
<45,000:1 and > 20,000:1 AND | >4,500:0 and <6,000:0 | 4
>20,000:1 AND | >6,000:1 | 3
>30,000:1 |  | 2
| >9,000:1 | 1
¹ > = Greater Than; < = Less Than

To reflect the mental health services available in a community, entities applying for Mental Health HPSAs are encouraged to report on the number of both psychiatrists and core mental health providers rendering services. The revised point scale is as follows:

For Geographic High Need and Population HPSAs, as defined in the designation criteria set forth in 42 CFR part 5, Appendix C, Part 1, and A.4.

BILLING CODE 4165-15-P

Dated: January 6, 2015.
Mary K. Wakefield,
Administrator.

[FR Doc. 2015-00398 Filed 1-13-15; 8:45 am]

BILLING CODE 4165-15-C